DEPARTMENT OF DEFENSE

Department of the Navy

Notice of Intent To Grant Exclusive Patent License; Duchak Ventures, LLC

AGENCY: Department of the Navy, DoD.

ACTION: Notice.

SUMMARY: The Department of the Navy hereby gives notice of its intent to grant to Duchak Ventures, LLC, a revocable, nonassignable, exclusive license to practice in the field of use of respirator systems and safety applications; the field of use of filtering media within a respirator cartridge or respirator system and meant for human wear; and the field of use of air filter media for safety and hygiene applications in public, residential, industrial, and commercial facilities and structures, in the United States, the Government-owned invention described in U.S. Patent No. 7,749,438: Fluorophore Embedded/Incorporating/Bridged Periodic Mesoporous Organosilicas as Recognition Elements for Optical Sensors, Navy Case No. 097,345.//U.S. Patent No. 7,754,145: Fluorphore Embedded/Incorporating/Bridged Periodic Mesoporous Organosilicas as Recognition Photo-Decontamination Catalysts, Navy Case No. 097,346.//and any continuations, divisionals or re-issues thereof.

DATES: Anyone wishing to object to the grant of this license must file written objections along with supporting evidence, if any, not later than September 7, 2018.

ADDRESSES: Written objections are to be filed with the Naval Research Laboratory, Code 1004, 4555 Overlook Avenue SW, Washington, DC 20375-5320.

FOR FURTHER INFORMATION CONTACT: Amanda Horansky McKinney, Head, Technology Transfer Office, NRL Code 1004, 4555 Overlook Avenue SW, Washington, DC 20375-5320, telephone 202-767-1644. Due to U.S. Postal delays, please fax 202-404-7920, email: techtran@nrl.navy.mil or use courier delivery to expedite response.

Authority: 35 U.S.C. 207, 37 CFR part 404.

Dated: August 20, 2018.
James Edward Mosimann III,
Lieutenant, Judge Advocate General's Corps, U.S. Navy, Alternate Federal Register Liaison Officer.

[FR Doc. 2018-18210 Filed 8-22-18; 8:45 am]

BILLING CODE 3810-FF-P